DEPARTMENT OF TRANSPORTATION

Federal Aviation Administration

14 CFR Part 39

[Docket No. FAA-2014-0011; Directorate Identifier 2013-NM-046-AD; Amendment 39-18194; AD 2015-13-07]

RIN 2120-AA64

Airworthiness Directives; Airbus Airplanes

AGENCY: Federal Aviation Administration (FAA), Department of Transportation (DOT).

ACTION: Final rule.

SUMMARY: We are superseding Airworthiness Directive (AD) 98-13-23 for certain Airbus Model A300 B4-600, B4-600R, and F4-600R series airplanes, and Model A300 C4-605R Variant F airplanes (collectively called Model A300-600 series airplanes). AD 98-13-23 required inspections to detect corrosion and cracking of the lower horizontal stabilizer cutout longeron, the corner fitting, the skin strap, and the outer skin; and repair, if necessary. This new AD reduces the compliance times and repetitive intervals, and changes the inspection procedures. This AD was prompted by the determination that the risk of cracking is higher than initially determined. We are issuing this AD to prevent cracking of the lower horizontal stabilizer cutout longeron, the corner fitting, the skin strap, and the outer skin, which could result in reduced structural integrity of the horizontal-stabilizer cutout longeron.

DATES: This AD becomes effective August 28, 2015.

The Director of the Federal Register approved the incorporation by reference of a certain publication listed in this AD as of August 28, 2015.

The Director of the Federal Register approved the incorporation by reference of a certain other publication listed in this AD as of July 30, 1998 (63 FR 34576).

ADDRESSES: You may examine the AD docket on the Internet at http://www.regulations.gov/#!docketDetail;D=FAA-2014-0011; or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0011.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 98-13-23, Amendment 39-10614 (63 FR 34576, June 25, 1998). AD 98-13-23 applied to certain Airbus Model 300-600 series airplanes. The NPRM published in the Federal Register on February 10, 2014 (79 FR 7592).

The European Aviation Safety Agency (EASA), which is the Technical Agent for the Member States of the European Union, has issued EASA Airworthiness Directive 2013-0048, dated March 4, 2013 (referred to after this as the Mandatory Continuing Airworthiness Information, or “the MCAI”), to correct an unsafe condition on certain Airbus Model A300 B4-600, B4-600R, and F4-600R series airplanes, and Model A300 C4-605R Variant F airplanes (collectively called Model A300-600 series airplanes). The MCAI states:

During a full scale fatigue test, a crack was found at the lower corner of the assembly of the horizontal stabilizer cut-out, between Frame (FR)87 and FR89 and between Stringer (STGR)24 and STGR27, Left Hand (LH) and Right Hand (RH) sides.

This condition, if not detected and corrected, could reduce the structural integrity of the aeroplane.

DGAC [The Direction Generale de l'Aviation Civile France] France issued AD * * * to require repetitive visual and High Frequency Eddy Current (HFEC) rotating probe inspections of the affected areas and subsequent corrective action, in case of cracks.

Since that [DGAC France] AD was issued, a fleet survey and updated Fatigue and Damage Tolerance analyses have been performed to substantiate the second A300-600 Extended Service Goal (ESG2) exercise. The results of these analyses have shown that the risk of cracks for these aeroplanes is higher than initially determined and that, consequently, the thresholds and intervals must be reduced to allow timely detection of these cracks and accomplishment of an applicable corrective action.

For the reasons described above, this [EASA] AD retains the requirements of DGAC France AD * * *, which is superseded, and requires the accomplishment of these actions within the new thresholds and intervals defined in Revision 03 of Airbus Service Bulletin (SB) A300-53-6042 [dated August 30, 2012].

You may examine the MCAI in the AD docket on the Internet at http://www.regulations.gov/#!docketDetail;D=FAA-2014-0011-0002.

Comments

We gave the public the opportunity to participate in developing this AD. The following presents the comments received on the NPRM (79 FR 7592, February 10, 2014) and the FAA's response to each comment.

Acknowledgement of the NPRM (79 FR 7592, February 10, 2014)

FedEx acknowledges the requirements of the NPRM (79 FR 7592, February 10, 2014).

Request To Revise Compliance Times

UPS requested that we revise the compliance times in the proposed AD (79 FR 7592, February 10, 2014) to reflect specific times regardless of the aircraft utilization rate. UPS stated that a comment response in AD 98-13-23, Amendment 39-10614 (63 FR 34576, June 25, 1998), noted that the FAA did not concur with the “average flight time” (AFT) compliance time methodology as it may not address the unsafe condition in a timely manner. UPS stated that paragraph (h) of the proposed AD specifies that the compliance time is at the applicable times specified in paragraph 1.E. of Airbus Service Bulletin A300-53-6042, Revision 03, dated August 30, 2012, which establishes the initial and repetitive inspection compliance times based on AFT methodology. UPS requested changing the compliance times in paragraph (h) of the proposed AD to reflect specific values regardless of the aircraft utilization rate to provide consistency in the compliance times for paragraphs (g) and (h) of the proposed AD.

We disagree with the commenter's request to revise the compliance times in this AD. At the time the FAA issued AD 98-13-23, Amendment 39-10614 (63 FR 34576, June 25, 1998), the required actions in Airbus Service Bulletin A300-53-6042, Revision 1, dated February 20, 1995, contained inspection thresholds and intervals based on airplane flight cycles, and provided instructions for adjusting the flight cycle threshold and interval using each individual airplane's AFT utilization. The FAA did not agree with the AFT method because it could result in a different inspection threshold and interval for each individual airplane, and the FAA did not agree with adjusting a flight cycle based threshold and interval using the average flight time utilization without also having a related flight hour based threshold and interval. In Airbus Service Bulletin A300-53-6042, Revision 03, dated August 30, 2012, the inspection thresholds and intervals are now based on the accumulation of both flight cycles and flight hours, and are listed in tables appropriately grouping airplanes with average flight time utilization above 1.5 hours, and airplanes with average flight time utilization at or below 1.5 hours. The changes made in Airbus Service Bulletin A300-53-6042, Revision 03, dated August 30, 2012 have addressed the FAA's original concerns with the AFT method and is acceptable for this AD.

We acknowledge that a fixed compliance time for a fleet could be easier for operators to schedule and record compliance. Therefore, under the provisions of paragraph (l)(1) of this AD, we will consider requests for approval of an alternative method of compliance (AMOC) if a proposal is submitted that is supported by technical data that includes fatigue and damage tolerance analysis. We have not changed this AD in this regard.

Request for Credit for Previous Cold Expansion

UPS requested that we allow credit for previous accomplishment of cold expansion of the fastener holes. UPS stated that paragraph (h)(3) of the proposed AD (79 FR 7592, February 10, 2014) requires cold working fastener holes in accordance with Airbus Service Bulletin A300-53-6042, Revision 03, dated August 30, 2012, if no cracking is found. However, the fastener holes were previously cold worked as a requirement of paragraph (c)(2) of AD 98-13-23, Amendment 39-10614 (63 FR 34576, June 25, 1998). UPS suggested that we add the phrase “unless previously accomplished” to the second sentence of paragraph (h)(3) of the proposed AD.

We agree with the request to give credit if fastener holes were cold worked before the effective date of this AD. We have added a new paragraph (k)(2) to this AD to give credit for cold working fastener holes using Airbus Service Bulletin A300-53-6042, Revision 1, dated February 20, 1995, which is referred to as the appropriate source of service information for the actions in AD 98-13-23, Amendment 39-10614 (63 FR 34576, June 25, 1998); or Airbus Service Bulletin A300-53-6042, Revision 02, dated April 28, 1998.

We have re-designated paragraph (k) of the proposed AD (79 FR 7592, February 10, 2014) as paragraph (k)(1) of this AD. We also removed the reference to Airbus Service Bulletin A300-53-6042, Revision 1, dated February 20, 1995 from paragraph (k)(1) of this AD, which gives credit for actions in paragraph (g) of this AD. Paragraph (g) of this AD already refers Airbus Service Bulletin A300-53-6042, Revision 1, dated February 20, 1995, as a source of service information.

Request To Remove Requirement To Refer to This AD in Repair Approvals

UPS also requested that we revise paragraph (i)(2) of the proposed AD (79 FR 7592, February 10, 2014) to remove the requirement to include the AD reference in repair approvals. UPS noted its concerns that the proposal would require development of a unique Airbus process for U.S. operators; that it could have significant financial and administrative impacts to existing customer support agreements and different AD records requirements within an operator's fleet; and that it will increase requests for approval of AMOCs and result in delayed return to service.

We concur with the commenter's request to remove from this AD the requirement that repair approvals must specifically refer to this AD. We have revised paragraph (i)(2) of this AD accordingly.

Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 7592, February 10, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include “the Design Approval Holder (DAH) with a State of Design Authority's design organization approval (DOA)” to refer to a DAH authorized to approve required repairs for the AD.

In its comments to the NPRM (79 FR 7592, February 10, 2014), UPS stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, EASA, or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility afforded previously by the Airworthy Product paragraph. Consistent with long-standing FAA policy, such flexibility was never intended for required actions. This is also consistent with the recommendation of the AD Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to an NPRM having Directorate Identifier 2012-NM-101-AD (78 FR 78285, December 26, 2013) pointed out that in many cases the foreign manufacturer's service bulletin and the foreign authority's MCAI may have been issued some time before the FAA AD. Therefore, the DOA may have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement from this AD that the DAH-provided repair specifically refer to this AD. Before adopting such a requirement in the future, the FAA will coordinate with affected DAHs and verify they are prepared to implement means to ensure that their repair approvals consider the unsafe condition addressed in an AD. Any such requirements will be adopted through the normal AD rulemaking process, including notice-and-comment procedures, when appropriate.

We have also decided not to include a generic reference to either the “delegated agent” or the “DAH with State of Design Authority design organization approval,” but instead we will provide the specific delegation approval granted by the State of Design Authority for the DAH.

Conclusion

We reviewed the available data, including the comments received, and determined that air safety and the public interest require adopting this AD with the changes described previously and minor editorial changes. We have determined that these minor changes:

• Are consistent with the intent that was proposed in the NPRM (79 FR 7592, February 10, 2014) for correcting the unsafe condition; and

• Do not add any additional burden upon the public than was already proposed in the NPRM (79 FR 7592, February 10, 2014).

Related Service Information Under 1 CFR Part 51

Airbus issued Service Bulletin A300-53-6042, Revision 03, dated August 30, 2012. The service information describes procedures for an inspection of the lower tail plane cut-out. This service information is reasonably available because the interested parties have access to it through their normal course of business or by the means identified in the ADDRESSES section of this AD.

Costs of Compliance

We estimate that this AD affects 5 airplanes of U.S. registry.

The actions required by AD 98-13-23, Amendment 39-10614 (63 FR 34576, June 25, 1998), and retained in this AD take about 268 work-hours per product, at an average labor rate of $85 per work-hour. Required parts cost about $0 per product. Based on these figures, the estimated cost of the actions that were required by AD 98-13-23 is $22,780 per product.

We also estimate that it will take about 88 work-hours per product to comply with the new basic requirements of this AD. The average labor rate is $85 per work-hour. Required parts will cost about $0 per product. Based on these figures, we estimate the cost of this AD on U.S. operators to be $37,400, or $7,480 per product per inspection cycle.

In addition, we estimate that any necessary follow-on actions will take about 155 work-hours and require parts costing $0, for a cost of $13,175 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0011; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-13-23, Amendment 39-10614 (63 FR 34576, June 25, 1998), and adding the following new AD:

2015-13-07 Airbus: Amendment 39-18194. Docket No. FAA-2014-0011; Directorate Identifier 2013-NM-046-AD.

(a) Effective Date

This AD becomes effective August 28, 2015.

(b) Affected ADs

This AD replaces AD 98-13-23, Amendment 39-10614 (63 FR 34576, June 25, 1998).

(c) Applicability

This AD applies to Airbus Model A300 B4-601, B4-603, B4-620, and B4-622 airplanes; Model A300 B4-605R and B4-622R airplanes; Model A300 F4-605R and F4-622R airplanes; and Model A300 C4-605R Variant F airplanes; certificated in any category; on which Airbus Modification 6146 has not been installed.

(d) Subject

Air Transport Association (ATA) of America Code 53, Fuselage.

(e) Reason

This AD was prompted by reports of cracking found at the lower corner of the horizontal stabilizer cutout longeron during a full scale fatigue test, and a determination that the risk of cracking is higher than initially determined. We are issuing this AD to prevent cracking of the lower horizontal stabilizer cutout longeron, the corner fitting, the skin strap, and the outer skin, which could result in reduced structural integrity of the horizontal-stabilizer cutout longeron.

(f) Compliance

Comply with this AD within the compliance times specified, unless already done.

(g) Retained Inspections and Corrective Actions

This paragraph restates the requirements of paragraphs (a), (b), (c), (d), and (e) of AD 98-13-23, Amendment 39-10614 (63 FR 34576, June 25, 1998), with revised service information.

(1) Prior to the accumulation of 18,000 total landings, or within 2,000 landings after July 30, 1998 (the effective date of AD 98-13-23, Amendment 39-10614 (63 FR 34576, June 25, 1998), whichever occurs later: Perform a visual and eddy current inspection to detect cracks and/or corrosion of Areas 1 and 2 of the lower horizontal stabilizer cutout longeron, in accordance with Airbus Service Bulletin A300-53-6042, Revision 1, dated February 20, 1995; or the Accomplishment Instructions of Airbus Service Bulletin A300-53-6042, Revision 03, dated August 30, 2012. As of the effective date of this AD, use only Airbus Service Bulletin A300-53-6042, Revision 03, dated August 30, 2012, to do the actions required by this paragraph.

(2) At the later of the times specified in paragraphs (g)(2)(i) and (g)(2)(ii) of this AD: Perform a visual and an eddy current inspection to detect cracks and corrosion of Area 3 of the lower horizontal stabilizer cutout longeron, in accordance with Airbus Service Bulletin A300-53-6042, Revision 1, dated February 20, 1995; or the Accomplishment Instructions of Airbus Service Bulletin A300-53-6042, Revision 03, dated August 30, 2012. As of the effective date of this AD, use only Airbus Service Bulletin A300-53-6042, Revision 03, dated August 30, 2012, to do the actions required by this paragraph.

(i) Prior to the accumulation of 24,000 total landings, but not before the accumulation of 18,000 total landings; or

(ii) Prior to the accumulation of 2,000 landings after July 30, 1998 (the effective date of AD 98-13-23, Amendment 39-10614 (63 FR 34576, June 25, 1998)).

(3) If no cracking is detected during any inspection required by paragraph (g)(1) or (g)(2) of this AD: Before further flight, cold work and ream the vacated fastener holes, in accordance with Airbus Service Bulletin A300-53-6042, Revision 1, dated February 20, 1995; or the Accomplishment Instructions of Airbus Service Bulletin A300-53-6042, Revision 03, dated August 30, 2012; and perform the requirements of paragraph (g)(3)(i) or (g)(3)(ii) of this AD, as applicable. As of the effective date of this AD, use only Airbus Service Bulletin A300-53-6042, Revision 03, dated August 30, 2012, to do the actions required by this paragraph.

(i) For airplanes on which no cracking is found in Area 1 or 2: Repeat the inspections required by paragraph (g)(1) of this AD thereafter at intervals not to exceed 6,000 flight cycles.

(ii) For airplanes on which no cracking is found in Area 3: Perform the various follow-on actions in accordance with Airbus Service Bulletin A300-53-6042, Revision 1, dated February 20, 1995; or the Accomplishment Instructions of Airbus Service Bulletin A300-53-6042, Revision 03, dated August 30, 2012. (The follow-on actions include installing a new corner fitting, installing a new longeron, and performing a cold working procedure.) After accomplishment of these follow-on actions, no further action is required by this AD. After the effective date of this AD, use only Airbus Service Bulletin A300-53-6042, Revision 03, dated August 30, 2012, to do the actions required by this paragraph.

(4) If any cracking is detected during any inspection required by paragraph (g)(1) or (g)(2) of this AD, perform the requirements of paragraph (g)(4)(i) or (g)(4)(ii) of this AD, as applicable.

(i) If any cracking is found in Area 1 or 3 that is within the limits specified in Airbus Service Bulletin A300-53-6042, Revision 1, dated February 20, 1995; or Airbus Service Bulletin A300-53-6042, Revision 03, dated August 30, 2012: Before further flight, repair in accordance with Airbus Service Bulletin A300-53-6042, Revision 1, dated February 20, 1995; or the Accomplishment Instructions of Airbus Service Bulletin A300-53-6042, Revision 03, dated August 30, 2012. As of the effective date of this AD, use only Airbus Service Bulletin A300-53-6042, Revision 03, dated August 30, 2012, to do the actions required by this paragraph.

(ii) If any cracking is found in Area 2, or if any cracking is found in any area and that cracking is beyond the limits described in Airbus Service Bulletin A300-53-6042, Revision 1, dated February 20, 1995; or Airbus Service Bulletin A300-53-6042, Revision 03, dated August 30, 2012: Before further flight, repair using a method approved by the Manager, International Branch, ANM-116, Transport Airplane Directorate, FAA; or the European Aviation Safety Agency (EASA), or Airbus's EASA Design Organization Approval (DOA).

(5) If any corrosion is detected during any inspection required by paragraph (g) of this AD, prior to further flight, repair the corrosion, in accordance with Airbus Service Bulletin A300-53-6042, Revision 1, dated February 20, 1995; or the Accomplishment Instructions of Airbus Service Bulletin A300-53-6042, Revision 03, dated August 30, 2012. As of the effective date of this AD, use only Airbus Service Bulletin A300-53-6042, Revision 03, dated August 30, 2012, to do the actions required by this paragraph.

(h) New Inspections

At the applicable times specified in paragraph 1.E., “Compliance,” of Airbus Service Bulletin A300-53-6042, Revision 03, dated August 30, 2012, except as provided by paragraphs (j)(1) and (j)(2) of this AD: Do the actions specified in paragraphs (h)(1), (h)(2), and (h)(3) of this AD, in accordance with the Accomplishment Instructions of Airbus Service Bulletin A300-53-6042, Revision 03, dated August 30, 2012. Repeat the inspections, thereafter, at the applicable intervals specified in paragraph 1.E., “Compliance,” of Airbus Service Bulletin A300-53-6042, Revision 03, dated August 30, 2012. Doing the initial inspections required by paragraph (h) of this AD and applicable corrective actions required by paragraph (i) of this AD terminates the requirements of paragraph (g) of this AD.

(1) Do a general visual inspection for cracking and corrosion of the lower horizontal stabilizer cut-out longeron, the corner fitting, the skin strap, and the skin between frame (FR)87 and FR89 and between stringers (STGR)24 and STGR27, left- and right-hand sides.

(2) Do a high frequency eddy current (HFEC) inspection for cracking of the flanges of the lower corner fittings and the edges of the outer skin and the edges of the longeron, the skin strap, and the skin at the run-out of the corner fitting above the last eight fasteners.

(3) Do a rotating probe inspection for cracking of the fastener holes. If no cracking is found during the rotating probe inspection, before further flight, do a cold expansion of the fastener holes, in accordance with the Accomplishment Instructions of Airbus Service Bulletin A300-53-6042, Revision 03, dated August 30, 2012.

(i) New Corrective Actions

(1) If any corrosion is found during any inspection required by paragraph (h) of this AD, before further flight, repair, in accordance with the Accomplishment Instructions of Airbus Service Bulletin A300-53-6042, Revision 03, dated August 30, 2012.

(2) If any cracking is found during any inspection required by paragraph (h) of this AD, before further flight, repair in accordance with the Accomplishment Instructions of Airbus Service Bulletin A300-53-6042, Revision 03, dated August 30, 2012, except where Airbus Service Bulletin A300-53-6042, Revision 03, dated August 30, 2012, specifies to contact Airbus, before further flight, repair using a method approved by the Manager, International Branch, ANM-116, Transport Airplane Directorate, FAA; or EASA, or Airbus's EASA DOA.

(j) Exception

(1) Where Airbus Service Bulletin A300-53-6042, Revision 03, dated August 30, 2012, specifies a grace period of 1950 flight cycles or 4100 flight hours, this AD specifies the grace period after the effective date of this AD.

(2) Where Airbus Service Bulletin A300-53-6042, Revision 03, dated August 30, 2012, specifies a compliance time “after receipt of this service bulletin,” this AD requires compliance within the specified compliance time after the effective date of this AD.

(k) Credit for Previous Actions

(1) This paragraph provides credit for the corresponding actions required by paragraph (g) of this AD, if those actions were performed before the effective date of this AD using Airbus Service Bulletin A300-53-6042, Revision 02, dated April 28, 1998, which is not incorporated by reference in this AD.

(2) This paragraph provides credit for the corresponding actions required by paragraph (h)(3) of this AD, if those actions were performed before the effective date of this AD using Airbus Service Bulletin A300-53-6042, Revision 1, dated February 20, 1995, which was incorporated by reference in AD 98-13-23, Amendment 39-10614 (63 FR 34576, June 25, 1998), and continues to be incorporated by reference in this AD; or Airbus Service Bulletin A300-53-6042, Revision 02, dated April 28, 1998, which is not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved for AD 98-13-23, Amendment 39-10614 (63 FR 34576, June 25, 1998), are approved as AMOCs for the corresponding requirements of this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(m) Related Information

(1) Refer to Mandatory Continuing Airworthiness Information (MCAI) EASA Airworthiness Directive 2013-0048, dated March 4, 2013, for related information. This MCAI may be found in the AD docket on the Internet at http://www.regulations.gov by searching for and locating Docket No. FAA-2014-0011.

(2) Service information identified in this AD that is not incorporated by reference in this AD is available at the addresses specified in paragraphs (n)(5) and (n)(6) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 28, 2015.

(i) Airbus Service Bulletin A300-53-6042, Revision 03, dated August 30, 2012.

(ii) Reserved.

(4) The following service information was approved for IBR on July 30, 1998 (63 FR 34576, June 25, 1998).

(i) Airbus Service Bulletin A300-53-6042, Revision 1, dated February 20, 1995.

(ii) Reserved.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on June 17, 2015.
Michael Kaszycki,
Acting Manager, Transport Airplane Directorate, Aircraft Certification Service.

[FR Doc. 2015-17934 Filed 7-23-15; 8:45 am]

BILLING CODE 4910-13-P